DEPARTMENT OF STATE

[Public Notice 6208]

Public Hearings on Proposed New Order of Approval and Plan 2007 for Lake Ontario and the St. Lawrence River

The International Joint Commission (the Commission) invites public comment on a proposed new Order of Approval and Plan 2007 for regulating the outflows from Lake Ontario through the international hydropower project between Cornwall, Ontario and Massena, New York. Regulation of Lake Ontario outflows affects water levels and flows on the Lake Ontario-St. Lawrence River system from Niagara Falls, New York and Ontario to Trois-Rivières, Quebec. Complete information on the Commission's proposal can be found at: http://www.ijc.org.

The Commission invites public comment on the proposed new Order and Plan 2007 at public hearings to be held in the following locations.

All Public Hearings will be held from 7 p.m.-9 p.m.

Port Jordan, ON,

Best Western,

2793 Beacon Blvd,

June 9, 2008.

Olcott, NY,

Olcott Fire Company,

1691 Lockport Olcott Road,

June 10, 2008.

Greece, NY,

Town of Greece Community and Senior Center,

Multi-purpose Room,

3 Vince Tofany Boulevard,

June 11, 2008.

Montreal, QC,

Botanical Garden,

4101 rue Sherbrooke Est,

June 17, 2008.

Sorel-Tracy, QC,

Auberge de la rive,

165 chemin Sainte-Anne,

June 18, 2008.

Massena, NY,

Quality Inn,

10 West Orvis Street,

June 19, 2008.

Belleville, ON,

Banquet Centre,

1 Alhambra Square,

June 23, 2008.

Kingston, ON,

City Hall,

216 Ontario St.,

June 24, 2008.

Alexandria Bay, NY,

Bonnie Castle Resort,

Home of the Stars Room,

31 Holland Street,

June 25, 2008.

Oswego, NY,

American Foundary,

246 West Seneca Street,

June 26, 2008.

The Commission also invites public comment in writing, including email and fax. Written comment must be received by July 11, 2008 at either of the following addresses:

U.S. Section Secretary, International Joint Commission, 2401 Pennsylvania Ave., NW., 4th Floor, Washington, DC 20440, Tel: (202) 736-9024, Fax: (202) 467-0746, Commission@washington.ijc.org.

Canadian Section Secretary, International Joint Commission, 234 Laurier Avenue West, 22nd Floor, Ottawa, ON K1P 6K6, Tel: (613) 995-0088, Fax: (613) 993-5583, Commission@ottawa.ijc.org.

Before making its final decision on this proposed new order and regulation plan, the Commission will carefully consider public comments and seek the concurrence of the two federal governments. The Commission's goal is to sign a new Order by December 2008 and implement a new plan shortly thereafter.

Written public comments will become part of a public record that may be posted on the Commission's Web site or otherwise made available to the public. The Commission requests that people who submit comments provide contact information so that the Commission can inform them of the outcome of the process. To protect the privacy of any person submitting comment, the Commission will remove the following identifying information from the incoming communication before making the comment available to the public: e-mail address, street address, post office box, zip code, postal code, telephone number and fax number. The following identifying information will remain part of the record that is made available to the public: name, organizational affiliation, city, and state/province.

For more information, visit the Commission's Web site at: http://www.ijc.org.

Dated: April 28, 2008.
James G. Chandler,
Acting Secretary, U.S. Section, International Joint Commission, Department of State.

[FR Doc. E8-9701 Filed 5-1-08; 8:45 am]

BILLING CODE 4710-14-P